DEPARTMENT OF COMMERCE

International Trade Administration

[C-570-017]

Countervailing Duty Order on Certain Passenger Vehicle and Light Truck Tires From the People's Republic of China: Amended Final Results of Countervailing Duty Administrative Review; 2016

AGENCY: Enforcement and Compliance, International Trade Administration, Department of Commerce.

SUMMARY: The Department of Commerce (Commerce) is amending the final results of the countervailing duty administrative review of certain passenger vehicle and light truck tires (passenger tires) from the People's Republic of China (China) to correct a ministerial error. The period of review (POR) is January 1, 2016 through December 31, 2016.

DATES: Applicable June 17, 2019.

FOR FURTHER INFORMATION CONTACT: Andrew Huston, AD/CVD Operations, Office VII, Enforcement and Compliance, International Trade Administration, U.S. Department of Commerce, 1401 Constitution Avenue NW, Washington, DC 20230; telephone (202) 482-4261.

SUPPLEMENTARY INFORMATION:

Background

In accordance with section 751(a)(1) of the Tariff Act of 1930, as amended (the Act), and 19 CFR 351.221(b)(5), on April 25, 2019, Commerce published its final results of the countervailing duty administrative review of passenger tires from China.¹ On May 6, 2019, Cooper (Kunshan) Tire Co., Ltd. (Cooper) submitted a request to correct a clerical error in the Final Results.² No other parties submitted ministerial error allegations or comments on Cooper's allegation.

¹ See Countervailing Duty Order on Certain Passenger Vehicle and Light Truck Tires from the People's Republic of China: Final Results of Countervailing Duty Administrative Review; 2016, 84 FR 17382 (April 25, 2019) (Final Results).

² See Cooper's Letter, “Certain Passenger Vehicle and Light Truck Tires from the People's Republic of China/Allegation of A Ministerial Error,” dated May 6, 2019 (Cooper Ministerial Comments).

Scope of the Order

The products covered by the order are certain passenger vehicle and light truck tires from the China. A full description of the scope of the order is contained in the Amended Final Decision Memorandum.³

³ See Memorandum “Administrative Review of the Countervailing Duty Order on Certain Passenger Vehicle and Light Truck Tires from the People's Republic of China: Decision Memorandum for Amended Final Results,” dated concurrently and herby adopted by this notice (Amended Final Decision Memorandum) for a full description of the scope of the order.

Ministerial Errors

Section 751(h) of the Act and 19 CFR 351.224(f) define a “ministerial error” as an error in addition, subtraction, or other arithmetic function, clerical error resulting from inaccurate copying, duplication, or the like, and any other similar type of unintentional error which the Secretary considers ministerial. As discussed in the Amended Final Decision Memorandum, Commerce finds that the error alleged by Cooper constitutes a ministerial error within the meaning of 19 CFR 351.224(f).⁴ Specifically, Commerce made an error in the calculation of the benefit to Cooper from the provision of synthetic rubber and butadiene for less than adequate remuneration.

⁴ Id. at 5.

In accordance with section 751(h) of the Act and 19 CFR 351.224(e), we are amending the Final Results to correct the ministerial error. Specifically, we are amending the net subsidy rates for Cooper and the non-selected companies under review.⁵ The revised net subsidy rates are provided below.

⁵ Id. at 5-6. Because we relied on Cooper's and Qingdao Sentury Tire Co. Ltd.'s subsidy rates to calculate the rate for non-selected companies under review, we are revising the rate for non-selected companies under review in these amended final results. See Final Results at Appendix II for a list of the non-selected companies under review.

Amended Final Results

As a result of correcting the ministerial error, we determine that the countervailable subsidy rates for the producers/exporters under review are as follows:

Company | Subsidy rate (percent)
Cooper (Kunshan) Tire Co., Ltd. (Cooper) | 15.47
Qingdao Sentury Tire Co. Ltd. (Sentury) | 15.75
Non-Selected Companies Under Review | 15.56

Assessment Rates

Commerce intends to issue assessment instructions to U.S. Customs and Border Protection (CBP) 15 days after the date of publication of these amended final results of review, to liquidate shipments of subject merchandise entered, or withdrawn from warehouse, for consumption, on or after January 1, 2016 through December 31, 2016, at the ad valorem rates listed above.

Commerce also intends to instruct CBP to collect cash deposits of estimated countervailing duties, in the amounts shown above for the companies listed above on shipments of subject merchandise entered, or withdrawn from warehouse, for consumption on or after April 25, 2019, the date of publication of the Final Results. For all non-reviewed firms, we will instruct CBP to collect cash deposits at the most-recent company specific or all-others rate applicable to the company, as appropriate. These cash deposit requirements, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Disclosure

We intend to disclose the calculations performed for these amended final results to interested parties within five business days of the date of the publication of this notice in accordance with 19 CFR 351.224(b).

We are issuing and publishing these results in accordance with sections 751(h) and 777(i)(1) of the Act, and 19 CFR 351.224(e).

Dated: June 11, 2019.
Jeffrey I. Kessler,
Assistant Secretary for Enforcement and Compliance.

[FR Doc. 2019-12728 Filed 6-14-19; 8:45 am]

BILLING CODE 3510-DS-P